DEPARTMENT OF THE TREASURY

Submission for OMB Review; Comment Request

March 14, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 20, 2001 to be assured of consideration.

Internal Revenue Service (IRS)

OMB Number: 1545-0367.

Form Number: IRS Form 4804.

Type of Review: Revision.

Title: Transmittal of Information Returns Reported Magnetically.

Description: 26 U.S.C. 6041 and 6042 require all persons engaged in a trade or business and making payments of taxable income to file reports of this income with the IRS. In certain cases, this information must be filed on magnetic media. Form 4804 is used to provide signature and balancing totals for magnetic media filers of information returns.

Respondents: Business or other for-profit, Individuals or households, Not-for-profit institutions, Farms, Federal Government, State, Local or Tribal Government.

Estimated Number of Respondents/Recordkeepers: 37,640.

Estimated Burden Hours Per Respondent/Recordkeeper: 18 minutes.

Frequency of Response: Annually.

Estimated Total Reporting/Recordkeeping Burden: 20,902 hours.

OMB Number: 1545-1549.

Form Number: None.

Type of Review: Extension.

Title: Tip Reporting Alternative Commitment (TRAC) for use in the food and beverage industry.

Description: Information is required by the Internal Revenue Service in its compliance efforts to assist employers and their employees in understanding and complying with section 6053(a), which requires employees to report all their tips monthly to their employers.

Respondents: Business or other for-profit.

Estimated Number of Respondents/Recordkeepers: 41,800.

Estimated Burden Hours Per Respondent/Recordkeeper: 7 hours, 6 minutes.

Frequency of Response: On occasion.

Estimated Total Reporting/Recordkeeping Burden: 296,916 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Mary A. Able,
Departmental Reports, Management Officer.

[FR Doc. 01-6931 Filed 3-20-01; 8:45 am]

BILLING CODE 4830-01-P